COMMISSION ON CIVIL RIGHTS

Sunshine Act Meeting Notice

AGENCY: United States Commission on Civil Rights.

ACTION: Notice of Commission public business meeting.

DATES: Friday April 17, 2020, 10:00 a.m. ET.

ADDRESSES: Meeting to take place by telephone.

FOR FURTHER INFORMATION CONTACT: Zakee Martin, (202)-376-7700, publicaffairs@usccr.gov.

SUPPLEMENTARY INFORMATION: This business meeting is open to the public by telephone only: 1-800-289-0449, Conference ID 209-3370.

Computer assisted real-time transcription (CART) will be provided. The web link to access CART (in English) on Friday, April 17, 2020, is https://www.streamtext.net/player?event=USCCR. Please note that CART is text-only translation that occurs in real time during the meeting and is not an exact transcript.

Meeting Agenda

I. Approval of Agenda

II. Business Meeting

A. Presentation by Chair of Massachusetts Advisory Committee on the Committee's report, Human Trafficking in Massachusetts

B. Presentation by Chair of Delaware Advisory Committee on the Committee's report, Implicit Bias and Policing in Communities of Color in Delaware

C. Discussion and vote on Commission Advisory Committees

• Chair of Kentucky Advisory Committee

• Connecticut Advisory Committee

• Delaware Advisory Committee

• Vermont Advisory Committee

D. Presentation on U.S. Election Assistance Commission Board of Advisors by Commissioner Michael Yaki

E. Management and Operations

• Staff Director's Report

III. Adjourn Meeting

Dated: April 9, 2020.
David Mussatt,
Supervisory Chief, Regional Programs Unit.

[FR Doc. 2020-07832 Filed 4-10-20; 11:15 am]

BILLING CODE P